DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Mohave (FEMA Docket No.: B-1862) | City of Lake Havasu City (18-09-0407P) | The Honorable Mark S. Nexsen, Mayor, City of Lake Havasu City, 2330 McCulloch Boulevard North, Lake Havasu City, AZ 86403 | City Hall, 2330 McCulloch Boulevard North, Lake Havasu City, AZ 86403 | Jan. 21, 2019 | 040116
Pima (FEMA Docket No.: B-1867) | City of Tucson (18-09-1087P) | The Honorable Jonathan Rothschild, Mayor, City of Tucson, 255 West Alameda Street, Tucson, AZ 85701 | Planning and Development Services, 201 North Stone Avenue, 1st Floor, Tucson, AZ 85701 | Feb. 22, 2019 | 040076
Pima (FEMA Docket No.: B-1867) | Unincorporated Areas of Pima County (18-09-1087P) | The Honorable Richard Elias, Chairman, Board of Supervisors, Pima County, 130 West Congress Street, 11th Floor, Tucson, AZ 85701 | Pima County Flood Control District, 201 North Stone Avenue, 9th Floor, Tucson, AZ 85701 | Feb. 22, 2019 | 040073
Yavapai (FEMA Docket No.: B-1858) | Town of Chino Valley (18-09-0862P) | The Honorable Darryl L. Croft, Mayor, Town of Chino Valley, Town Hall, 202 North State Route 89, Chino Valley, AZ 86323 | Public Works Department, 1982 Voss Drive, #201, Chino Valley, AZ 86323 | Jan. 14, 2019 | 040094
Yavapai (FEMA Docket No.: B-1858) | Unincorporated Areas of Yavapai County (18-09-0862P) | The Honorable Rowle P. Simmons, Chairman, Board of Supervisors, Yavapai County, 1015 Fair Street, Prescott, AZ 86305 | Yavapai County Flood Control District, 1120 Commerce Drive, Prescott, AZ 86305 | Jan. 14, 2019 | 040093
California:
Fresno (FEMA Docket No.: B-1867) | City of Clovis (18-09-0724P) | The Honorable Bob Whalen, Mayor, City of Clovis, 1033 5th Street, Clovis, CA 93612 | Planning and Development, 1033 5th Street, Clovis, CA 93612 | Feb. 21, 2019 | 060044
Fresno (FEMA Docket No.: B-1867) | Unincorporated Areas of Fresno County (18-09-0724P) | The Honorable Sal Quintero, Chairman, Board of Supervisors, Fresno County, 2281 Tulare Street, Room 301, Fresno, CA 93721 | Fresno County Department of Public Works & Planning, 2220 Tulare Street, 6th Floor, Fresno, CA 93721 | Feb. 21, 2019 | 065029
Napa (FEMA Docket No.: B-1862) | City of Napa (16-09-1316P) | The Honorable Jill Techel, Mayor, City of Napa, P.O. Box 660, Napa, CA 94559 | Public Works Department, 1600 1st Street, Napa, CA 94559 | Jan. 22, 2019 | 060207
Napa (FEMA Docket No.: B-1862) | Unincorporated Areas of Napa County (16-09-1316P) | The Honorable Belia Ramos, Chairman, Board of Supervisors, Napa County, 1195 3rd Street, Suite 310, Napa, CA 94559 | Napa County Engineering Division, Planning, Building & Environmental Services, 1195 3rd Street, 2nd Floor, Napa, CA 94559 | Jan. 22, 2019 | 060205
Riverside (FEMA Docket No.: B-1858) | City of Perris (18-09-0229P) | The Honorable Michael M. Vargas, Mayor, City of Perris, 101 North D Street, Perris, CA 92570 | Engineering Department, 170 Wilkerson Avenue, Perris, CA 92570 | Jan. 3, 2019 | 060258
San Diego (FEMA Docket No.: B-1858) | City of San Marcos (18-09-0305P) | The Honorable Jim Desmond, Mayor, City of San Marcos, City Hall, 1 Civic Center Drive, San Marcos, CA 92069 | City Hall, 1 Civic Center Drive, San Marcos, CA 92069 | Jan. 18, 2019 | 060296
San Diego (FEMA Docket No.: B-1858) | Unincorporated Areas of San Diego County (18-09-0305P) | The Honorable Kristin Gaspar, Chair, Board of Supervisors, San Diego County, 1600 Pacific Highway, Room 335, San Diego, CA 92101 | San Diego County Flood Control District, Department of Public Works, 5510 Overland Avenue, Suite 410, San Diego, CA 92123 | Jan. 18, 2019 | 060284
San Joaquin (FEMA Docket No.: B-1854) | City of Lathrop (18-09-0879P) | The Honorable Sonny Dhaliwal, Mayor, City of Lathrop, 390 Towne Centre Drive, Lathrop, CA 95330 | City Hall, 390 Towne Centre Drive, Lathrop, CA 95330 | Dec. 24, 2018 | 060738
San Luis Obispo (FEMA Docket No.: B-1862) | City of San Luis Obispo (17-09-2800P) | The Honorable Heidi Harmon, Mayor, City of San Luis Obispo, 990 Palm Street, San Luis Obispo, CA 93401 | Engineering Department, 919 Palm Street, San Luis Obispo, CA 93401 | Feb. 7, 2019 | 060310
Florida:
Duval (FEMA Docket No.: B-1862) | City of Jacksonville (17-04-6092P) | The Honorable Lenny Curry, Mayor, City of Jacksonville, 117 West Duval Street, Suite 400, Jacksonville, FL 32202 | City Hall, 117 West Duval Street, Jacksonville, FL 32202 | Jan. 17, 2019 | 120077
Duval (FEMA Docket No.: B-1858) | City of Jacksonville (18-04-3852P) | The Honorable Lenny Curry, Mayor, City of Jacksonville, City Hall at St. James Building, 117 West Duval Street, Suite 400, Jacksonville, FL 32202 | City Hall, 117 West Duval Street, Jacksonville, FL 32202 | Jan. 3, 2019 | 120077
St. Johns (FEMA Docket No.: B-1858) | Unincorporated Areas of St. Johns County (18-04-3852P) | Mr. Henry Dean, Chairman, St. Johns County Board of Commissioners, 500 San Sebastian View, St. Augustine, FL 32804 | St. Johns County Administration Building, 4020 Lewis Speedway, St. Augustine, FL 32084 | Jan. 3, 2019 | 125147
Idaho:
Bannock (FEMA Docket No.: B-1867) | City of Pocatello (18-10-0482P) | The Honorable Brian Blad, Mayor, City of Pocatello, P.O. Box 4169, Pocatello, ID 83205 | City Hall, 911 North 7th Avenue, Pocatello, ID 83205 | Feb. 15, 2019 | 160012
Blaine (FEMA Docket No.: B-1862) | City of Hailey (18-10-0371P) | The Honorable Fritz Haemmerle, Mayor, City of Hailey, 115 Main Street South, Suite H, Hailey, ID 83333 | City Hall, 115 Main Street South, Suite H, Hailey, ID 83333 | Jan. 10, 2019 | 160022
Blaine (FEMA Docket No.: B-1862) | Unincorporated Areas of Blaine County (18-10-0371P) | Ms. Angenie McCleary, Chairman, Blaine County Board of Commissioners, 206 1st Avenue South, Suite 300, Hailey, ID 83333 | Blaine County Planning and Zoning, 219 1st Avenue South, Suite 208, Hailey, ID 83333 | Jan. 10, 2019 | 165167
Illinois:
Tazewell (FEMA Docket No.: B-1867) | Unincorporated Areas of Tazewell County (18-05-4174P) | The Honorable David Zimmerman, Chairman, Tazewell County Board, McKenzie Building, 11 South 4th Street, Suite 432, Pekin, IL 61554 | Tazewell County, McKenzie Building, 4th Floor, 11 South 4th Street, Pekin, IL 61554 | Feb. 14, 2019 | 170815
Tazewell (FEMA Docket No.: B-1867) | Village of Morton (18-05-4174P) | The Honorable Jeff Kaufman, Village President, Village of Morton, P.O. Box 28, Morton, IL 61550 | Village Hall, 120 North Main Street, Morton, IL 61550 | Feb. 14, 2019 | 170652
Indiana: Hamilton (FEMA Docket No.: B-1862) | City of Westfield (18-05-3099P) | The Honorable Andy Cook, Mayor, City of Westfield, 2728 East 171st Street, Westfield, IN 46074 | Town Hall, 130 Penn Street, Westfield, IN 46074 | Jan. 17, 2019 | 180083
Kansas:
Douglas (FEMA Docket No.: B-1854) | City of Lawrence (17-07-2396P) | The Honorable Stuart Moley, Mayor, City of Lawrence, P.O. Box 708, Lawrence, KS 66044 | City Hall, 6 East 6th Street, Lawrence, KS 66044 | Dec. 20, 2018 | 200090
Douglas (FEMA Docket No.: B-1854) | Unincorporated Areas of Douglas County (17-07-2396P) | Mr. Mike Gaughan, Chairman, Douglas County Commission, County Courthouse, 1100 Massachusetts Street, Lawrence, KS 66044 | Douglas County Courthouse, 1100 Massachusetts Street, Lawrence, KS 66044 | Dec. 20, 2018 | 200087
Johnson (FEMA Docket No.: B-1858) | City of Overland Park (17-07-2677P) | The Honorable Carl Gerlach, Mayor, City of Overland Park, 8500 Santa Fe Drive, Overland Park, KS 66212 | City Hall, 8500 Santa Fe Drive, Overland Park, KS 66212 | Dec. 26, 2018 | 200174
Johnson (FEMA Docket No.: B-1862) | City of Overland Park (18-07-1002P) | The Honorable Carl Gerlach, Mayor, City of Overland Park, 8500 Santa Fe Drive, Overland Park, KS 66212 | City Hall, 8500 Santa Fe Drive, Overland Park, KS 66212 | Jan. 9, 2019 | 200174
Minnesota:
McLeod (FEMA Docket No.: B-1867) | City of Glencoe (18-05-2850P) | The Honorable Randy Wilson, Mayor, City of Glencoe, Administration Building, 1107 11th Street East, Glencoe, MN 55336 | Administration Building, 1107 11th Street East, Glencoe, MN 55336 | Jan. 24, 2019 | 270263
McLeod (FEMA Docket No.: B-1867) | Unincorporated Areas of McLeod County (18-05-2850P) | Mr. Paul Wright, County Commissioner, McLeod County, McLeod County Courthouse, 830 11th Street East, Glencoe, MN 55336 | McLeod County Courthouse, 830 11th Street East, Glencoe, MN 55336 | Jan. 24, 2019 | 270616
Missouri: Jackson (FEMA Docket No.: B-1854) | City of Oak Grove (18-07-0728P) | The Honorable Jeremy Martin, Mayor, City of Oak Grove, P.O. Box 805, Oak Grove, MO 64075 | Mayor's Office, 1300 South Broadway Street, Oak Grove, MO 64075 | Dec. 20, 2018 | 290694
Nebraska:
Colfax (FEMA Docket No.: B-1867) | City of Schuyler (17-07-2227P) | The Honorable David Reinecke, Mayor, City of Schuyler, 1103 B Street, Schuyler, NE 68661 | Municipal Building, 1103 B Street, Schuyler, NE 68661 | Feb. 15, 2019 | 310046
Colfax (FEMA Docket No.: B-1867) | Unincorporated Areas of Colfax County (17-07-2227P) | Mr. Gil Wigington, Chairman, Colfax County Board of Commissioners, 411 East 11th Street, Schuyler, NE 68661 | Colfax County Courthouse, 411 East 11th Street, Schuyler, NE 68661 | Feb. 15, 2019 | 310426
Dodge (FEMA Docket No.: B-1858) | City of Scribner (18-07-0951P) | The Honorable Ken Thomas, Mayor, City of Scribner, Municipal Office, 508 3rd Street, Scribner, NE 68057 | City Office, 508 3rd Street, Scribner, NE 68057 | Jan. 3, 2019 | 310071
Dodge (FEMA Docket No.: B-1858) | Unincorporated Areas of Dodge County (18-07-0951P) | The Honorable Bob Missel, Chairman, Board of Supervisors, Dodge County, 427 North Birchwood, Fremont, NE 68025 | Dodge County Courthouse, 435 North Park Avenue, Fremont, NE 68025 | Jan. 3, 2019 | 310068
Madison (FEMA Docket No.: B-1858) | City of Norfolk (18-07-0950P) | The Honorable Josh Moenning, Mayor, City of Norfolk, Norfolk City Administration, 309 North 5th Street, Norfolk, NE 68701 | Planning and Zoning Department, 309 North 5th Street, Norfolk, NE 68701 | Jan. 3, 2019 | 310147
Saunders (FEMA Docket No.: B-1862) | Unincorporated Areas of Saunders County (18-07-0793P) | Ms. Doris Karloff, Chairperson, Saunders County, P.O. Box 153, Yutan, NE 68073 | Saunders County Courthouse, 433 North Chestnut Street, Wahoo, NE 68066 | Jan. 4, 2019 | 310195
Nevada: Clark (FEMA Docket No.: B-1854) | City of Henderson (18-09-1453P) | The Honorable Debra March, Mayor, City of Henderson, 240 South Water Street, Henderson, NV 89015 | Public Works Department, 240 South Water Street, Henderson, NV 89015 | Dec. 14, 2018 | 320005
New Jersey:
Essex (FEMA Docket No.: B-1854) | Township of Cedar Grove (18-02-1154P) | The Honorable Peter Tanella, Mayor, Township of Cedar Grove, Municipal Building, 525 Pompton Avenue, Cedar Grove, NJ 07009 | Municipal Building, 525 Pompton Avenue, Cedar Grove, NJ 07009 | Dec. 18, 2018 | 340180
Mercer (FEMA Docket No.: B-1858) | City of Trenton (18-02-0221P) | The Honorable Reed Gusciora, Mayor, City of Trenton, 319 East State Street, Mayor's Office 208, 2nd Floor, Trenton, NJ 08608 | Trenton Fire Department, 244 Perry Street, Trenton, NJ 08618 | Dec. 21, 2018 | 345325
Mercer (FEMA Docket No.: B-1858) | Township of Hamilton (18-02-0221P) | The Honorable Kelly Yaede, Mayor, Township of Hamilton, P.O. Box 00150, Hamilton, NJ 08650 | Municipal Building, 2090 Greenwood Avenue, Room 307, Hamilton, NJ 08609 | Dec. 21, 2018 | 340246
New York: Albany (FEMA Docket No.: B-1862) | City of Albany (17-02-1160P) | The Honorable Kathy M. Sheehan, Mayor, City of Albany, City Hall, 24 Eagle Street, Room 102, Albany, NY 12207 | City Hall, 24 Eagle Street, Albany, NY 12207 | Mar. 7, 2019 | 360001
Ohio:
Cuyahoga (FEMA Docket No.: B-1858) | Village of Chagrin Falls (18-05-2115P) | The Honorable Bill Tomko, Mayor, Village of Chagrin Falls, 21 West Washington Street, Chagrin Falls, OH 44022 | Village Hall, 21 West Washington Street, Chagrin Falls, OH 44022 | Dec. 28, 2018 | 390103
Franklin (FEMA Docket No.: B-1858) | City of Dublin (18-05-2353P) | The Honorable Greg Peterson, Mayor, City of Dublin, 5200 Emerald Parkway, Dublin, OH 43017 | Dublin Engineering Building, 5800 Shier-Rings Road, Dublin, OH 43017 | Dec. 28, 2018 | 390673
Franklin (FEMA Docket No.: B-1858) | City of Grove City (18-05-1293P) | The Honorable Richard L. Stage, Mayor, City of Grove City, 4035 Broadway Street, Grove City, OH 43123 | City Hall, 4035 Broadway Street, Grove City, OH 43123 | Nov. 30, 2018 | 390173
Franklin (FEMA Docket No.: B-1858) | Unincorporated Areas of Franklin County (18-05-1293P) | The Honorable Kevin L. Boyce, President, Franklin County Board of Commissioners, 373 South High Street, 26th Floor, Columbus, OH 43215 | Franklin County Engineer Office, 970 Dublin Road, Columbus, OH 43215 | Nov. 30, 2018 | 390167
Hamilton (FEMA Docket No.: B-1867) | Village of Amberley (18-05-2008P) | The Honorable Tom Muething, Mayor, Village of Amberley, 7149 Ridge Road, Cincinnati, OH 45237 | Municipal Building, 7149 Ridge Road, Cincinnati, OH 45237 | Feb. 15, 2019 | 390206
Summit (FEMA Docket No.: B-1858) | City of Hudson (18-05-1534P) | The Honorable David A. Basil, Mayor, City of Hudson, 115 Executive Parkway, Suite 400, Hudson, OH 44236 | City Hall, 115 Executive Parkway, Suite 400, Hudson, OH 44236 | Dec. 6, 2018 | 390660
Oregon:
Jackson (FEMA Docket No.: B-1862) | City of Medford (18-10-0822P) | The Honorable Gary Wheeler, Mayor, City of Medford, 411 West 8th Street, Medford, OR 97501 | Lausmann Annex Building, 200 South Ivy Street, Medford, OR 97501 | Jan. 23, 2019 | 410096
Deschutes (FEMA Docket No.: B-1867) | Unincorporated Areas of Deschutes County (18-10-0743P) | Mr. Alan Unger, Commissioner, Deschutes County, 1300 Northwest Wall Street, Bend, OR 97708 | Deschutes County Board of Commissioners, 1164 Northwest Bond Street, Bend, OR 99701 | Feb. 7, 2019 | 410055
Pennsylvania: Allegheny (FEMA Docket No.: B-1862) | Municipality of Monroeville (17-03-2556P) | The Honorable Nick Gresock, Mayor, Municipality of Monroeville, Monroeville Municipal Building, 2700 Monroeville Boulevard, Monroeville, PA 15146 | Municipal Engineering Office, 2700 Monroeville Boulevard, Monroeville, PA 15146 | Jan. 22, 2019 | 420054
Texas:
Dallas (FEMA Docket No.: B-1862) | City of Dallas (18-06-0160P) | The Honorable Michael S. Rawlings, Mayor, City of Dallas, 1500 Marilla Street, Suite 5EN, Dallas, TX 75201 | Department of Public Works, 320 East Jefferson Boulevard, Room 321, Dallas, TX 75203 | Feb. 6, 2019 | 480171
Tarrant (FEMA Docket No.: B-1854) | City of Euless (18-06-1471P) | The Honorable Linda Martin, Mayor, City of Euless, City Hall, 201 North Ector Drive, Euless, TX 76039 | Planning and Engineering Building, 201 North Ector Drive, Building C, Euless, TX 76039 | Dec. 17, 2018 | 480593
Travis (FEMA Docket No.: B-1862) | City of Austin (18-06-2729P) | The Honorable Steve Adler, Mayor, City of Austin, P.O. Box 1088, Austin, TX 78767 | Stormwater Management Division, 505 Barton Springs Road, Suite 908, Austin, TX 78704 | Jan. 17, 2019 | 480624
Washington: Spokane (FEMA Docket No.: B-1854) | Unincorporated Areas of Spokane County (17-10-1920P) | The Honorable Josh Kerns, Chair, Board of County Commissioners, Spokane County Courthouse, 1116 West Broadway Avenue, Spokane, WA 99260 | Spokane County Public Works Building, 1026 West Broadway Avenue, Spokane, WA 99201 | Dec. 14, 2018 | 530174
Wisconsin: Rusk (FEMA Docket No.: B-1862) | Unincorporated Areas of Rusk County (18-05-1900P) | The Honorable David Willingham, County Board Chair, Rusk County Government Center, 311 Miner Avenue East, Ladysmith, WI 54848 | Rusk County Courthouse, 311 Miner Avenue East, Ladysmith, WI 54848 | Feb. 1, 2019 | 550602

[FR Doc. 2019-06080 Filed 3-28-19; 8:45 am]

BILLING CODE 9110-12-P